DEPARTMENT OF ENERGY

Federal Energy Regulatory Commission

[Docket No. EG04-32-000, et al.]

Black River Generation, LLC, et al.; Electric Rate and Corporate Filings

February 5, 2004.

The following filings have been made with the Commission. The filings are listed in ascending order within each docket classification.

1. Black River Generation, LLC

[Docket No. EG04-32-000]

Take notice that on February 3, 2004, Black River Generation, LLC (Applicant), a New York limited liability company, filed with the Federal Energy Regulatory Commission an Application for Determination of Exempt Wholesale Generator Status pursuant to Part 365 of the Commission's Regulations and Section 32 of the Public Utility Holding Company Act of 1935, as amended.

Applicant states that it will lease and operate the Fort Drum Project (the Facility), which is located at the Fort Drum Army Base near Watertown, New York. The Facility is a topping-cycle electric generation project with a net electrical capacity of approximately 52 MW. Applicant further states that the Facility is interconnected with Niagara Mohawk Power Corporation's transmission grid and Applicant will have day-to-day operational responsibility and control of the Facility and will make all sales of electric energy, capacity and ancillary services generated by the Facility.

Applicant states that copies of the application have been served upon the New York Public Service Commission and the Securities and Exchange Commission.

Comment Date: February 24, 2004.

2. Duke Energy North America, LLC and Duke Energy Trading and Marketing, L.L.C., Complainants, v. Nevada Power Company, Respondent

[Docket No. EL04-73-000]

Take notice that on February 3, 2004, Duke Energy North America, LLC and Duke Energy Trading and Marketing, L.L.C. tendered for filing with the Federal Energy Regulatory Commission, a Complaint Requesting Fast Track Processing against Nevada Power Company pursuant to Section 206 of the Federal Power Act, 16 U.S.C. 824e, and Rule 206 of the Commission's Rules of Practice and Procedure, 18 CFR 385.206.

Comment Date: February 25, 2004.

3. New England Electric Transmission Corporation, New England Hydro Transmission Corporation, New England Hydro-Transmission Electric Company, Inc.

[Docket No. EL04-74-000]

Take notice that on January 20, 2004, New England Electric Transmission Corporation, New England Hydro Transmission Corporation and New England Hydro-Transmission Electric Company, Inc., tendered for filing a request for waiver of the requirements of Order No. 2003.

Comment Date: February 10, 2004.

4. ISO New England Inc.

[Docket No. ER02-2330-021]

Take notice that on December 16, 2003, ISO New England Inc. submitted a compliance filing providing a status report on the implementations of Standard Market Design in New England.

Comment Date: February 17, 2004.

5. The Allegheny Power System Operating Companies: Monongahela Power Company, The Potomac Edison Company, and West Penn Power Company, All Doing Business as Allegheny Power; The PHI Operating Companies: Potomac Electric Power Company, Delmarva Power & Light Company, and Atlantic City Electric Company; Baltimore Gas and Electric Company; Jersey Central Power & Light Company; Metropolitan Edison Company; Pennsylvania Electric Company; PECO Energy Company; PPL Electric Utilities Corporation; Public Service Electric and Gas Company; Rockland Electric Company; and UGI Utilities, Inc.

[Docket No. ER04-156-003]

Take notice that on February 2, 2004, The Allegheny Power System Operating Companies: Monongahela Power Company, The Potomac Edison Company, and West Penn Power Company, all doing business as Allegheny Power; The PHI Operating Companies: Potomac Electric Power Company, Delmarva Power & Light Company, and Atlantic City Electric Company; Baltimore Gas and Electric Company; Jersey Central Power & Light Company; Metropolitan Edison Company; Pennsylvania Electric Company; PECO Energy Company; PPL Electric Utilities Corporation; Public Service Electric and Gas Company; Rockland Electric Company; and UGI Utilities, Inc. (Transmission Owners) filed revised carrying charge rates and tariff sheets under Schedule 12A of the PJM Open Access Transmission Tariff in compliance with the Federal Energy Regulatory Commission's January 2, 2004 order, Allegheny Power System Operating Companies,et al., 106 FERC ¶ 61,003.

Transmission Owners state that copies of the filing were served upon PJM and each state public utility commission in the PJM region. In addition, the Transmission Owners requested that PJM post the filing on its Web site, www.PJM.com.

Comment Date: February 23, 2004.

6. Citigroup Energy Inc.

[Docket No. ER04-208-002]

Take notice that on February 2, 2004, Citigroup Energy Inc. (CEI) tendered for filing an amendment to its market-based rate schedule reflecting the Market Behavior Rules adopted by the Commission in the Order issued November 17, 2003, in Docket Nos. EL01-118-000 and 001.

Comment Date: February 23, 2004.

7. Xcel Energy Service, Inc.

[Docket No. ER04-243-001]

Take notice that on January 26, 2004, Xcel Energy Services, Inc. (XES), on behalf of Public Service Company of Colorado (PSC), tendered a filing for a Commission Order 614 complaint version of the Notice of Cancellation of a Power Purchase Agreement with the City of Glenwood Springs (City), effective January 1, 2000.

XES states that copies of this filing are being mailed to the affected state regulatory commissions and to the last known address of City.

Comment Date: February 17, 2004.

8. PJM Interconnection, L.L.C.

[Docket No. ER04-297-001]

Take notice that on February 2, 2004, PJM Interconnection, L.L.C. (PJM), submitted for filing an executed substitute interconnection service agreement (ISA) among PJM, Conectiv Energy Supply, Inc., and Delmarva Power & Light Company d/b/a Conectiv Power Delivery that includes language, requested by Commission staff, regarding disclosure of confidential information to the Commission or its staff. PJM requests a waiver of the Commission's 60-day notice requirement to permit a November 17, 2003 effective date for the ISA.

PJM states that copies of this filing were served upon the parties to the agreements, the state regulatory commissions within the PJM region, and the official service list complied by the Secretary in this proceeding.

Comment Date: February 23, 2004.

9. New York State Electric & Gas Corporation

[Docket No. ER04-518-000]

Take notice that on February 2, 2004, New York State Electric & Gas Corporation (NYSEG) submitted for filing revised retail access tariff leaves and a Joint Proposal related to standby service, as approved by Order of the New York State Public Service Commission (NYPSC) in NYSPSC Case 02-E-0779. NYSEG requests that the Joint Proposal and the SC-11 tariff leaves be made effective as of the dates authorized by the NYPSC.

NYSEG states that a copy of the submission was mailed to the NYPSC and to the customers that have entered into such individually-negotiated agreements as of the date of the filing.

Comment Date: February 23, 2004.

10. Southern California Edison Company

[Docket No. ER04-513-000]

Take notice that on February 2, 2004, Southern California Edison Company (SCE) tendered for filing revised rate sheets to the Amended and Restated Coolwater Generating Station Radial Lines Agreement between SCE and Reliant Energy Coolwater, L.L.C. (Reliant). SCE requests an effective date of February 3, 2004.

SCE states that copies of this filing were served upon the Public Utilities Commission of the State of California and Reliant.

Comment Date: February 23, 2004.

11. Northern States Power Company (Minnesota) and Northern States Power Company (Wisconsin)

[Docket No. ER04-514-000]

Take notice that on February 2, 2004, Northern States Power Company (Minnesota) and Northern States Power Company (Wisconsin) (NSP Companies) jointly tendered for filing revised tariffs sheets to NSP Electric Rate Schedule FERC No. 2, contained in Xcel Energy Operating Companies FERC Electric Tariff, Original Volume Number 3. The NSP Companies request an effective date of January 1, 2004.

The NSP Companies state that a copy of the filing has been served upon the State Commissions of Michigan, Minnesota, North Dakota, South Dakota and Wisconsin.

Comment Date: February 23, 2004.

12. Vermont Electric Cooperative, Inc.

[Docket No. ER04-519-000]

Take notice that on February 2, 2004, Vermont Electric Cooperative, Inc. (VEC) tendered for filing its proposed Rate Schedule FERC No. 10 for jurisdictional service. VEC states that each of the customers under the rate schedule, Citizens, the Vermont Public Service Board, and the Vermont Department of Public Service were mailed copies of the filing.

Comment Date: February 23, 2004.

13. Florida Power & Light Company

[Docket No. ER04-520-000]

Take notice that on February 2, 2004, Florida Power & Light Company (FPL) filed with the Federal Energy Regulatory Commission a Letter Agreement and a revised Service Agreement for Network Integration Transmission between FPL and Seminole Electric Cooperative, Inc. (Seminole) that provides for a credit offset to reduce Seminole's network service charge.

FPL states that a copy of this filing has been served on Seminole and Lee County Electric Cooperative, Inc. (LCEC).

Comment Date: February 23, 2004.

14. Citizens Communications Company

[Docket No. ER04-522-000]

Take notice that on February 2, 2004, Citizens Communications Company (Citizens) filed with the Federal Energy Regulatory Commission Notices of Cancellation FERC Rate Schedule Nos. 21, 22, 37, 43 and Citizens' FERC Electric Tariff Revised Volume No. 2.

Comment Date: February 23, 2004.

15. Citizens Communications Company

[Docket No. ER04-523-000]

Take notice that on February 2, 2004, Citizens Communications Company (Citizens) filed with the Federal Energy Regulatory Commission Notices of Cancellation of the FERC Rate Schedule Nos. 1 and 46.

Comment Date: February 23, 2004.

16. First Electric Cooperative Corp.

[Docket No. ER04-524-00]

Take notice that on January 30, 2004, First Electric Cooperative Corporation (First Electric) tendered for filing a Notice of Cancellation of First Electric's Rate Schedule No. 1 (Formula for Compensation for Non-Investment Credit Facilities Associated with Wheeling) and Supplement No. 1 to Rate Schedule No. 1 (Calculation of Compensation for Non-Investment Credit Facilities Associated with Wheeling), effective January 22, 2004. First Electric also requests certain waivers of the Commission's Regulations.

Comment Date: February 20, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-265 Filed 2-11-04; 8:45 am]

BILLING CODE 6717-01-P